DEPARTMENT OF JUSTICE

Antitrust Division

Notice Pursuant to the National Cooperative Research and Production Act of 1993—Medical CBRN Defense Consortium (Formerly National Chemical Biological Defense Consortium)

Notice is hereby given that, on June 23, 2016, pursuant to Section 6(a) of the National Cooperative Research and Production Act of 1993, 15 U.S.C. 4301 et seq. (“the Act”), National Chemical Biological Defense Consortium (“NCBDC”) has filed written notifications simultaneously with the Attorney General and the Federal Trade Commission disclosing changes in its membership. The notifications were filed for the purpose of extending the Act's provisions limiting the recovery of antitrust plaintiffs to actual damages under specified circumstances. National Chemical & Biological Defense Consortium (“NCBDC”) has changed its name to Medical CBRN Defense Consortium (“MCDC”). Specifically, AdjuvanceTechnologies, Inc., New York, NY; AEQUOR, Inc., Oceanside, CA; AktiVax, Inc., Boulder, CO; Alchem Laboratories Corp., Alachua, FL; Artificial Cell Technologies, Inc., New Haven, CT; Bach Pharma, Inc., North Andover, MA; Battelle Memorial Institute, Columbus, OH; Bryllan LLC, Brighton, MI; Creare LLC, Hanover, NH; CUBRC, Inc., Buffalo, NY; Data Sciences International, Inc., St. Paul, MN; First Line Technology, LLC, Chantilly, VA; Ginkgo Bioworks, Boston, MA; Harris Corporation, Herndon, VA; IIT Research Institute, Chicago, IL; Integrated Biotherapeutics, Inc., Gaithersburg, MD; InvivoSciences, Inc., Madison, WI; Joint Research and Development, Inc., Stafford, VA; Mapp BioPharmaceuticals, San Diego, CA; MaxCyte, Incorporated, Gaithersburg, MD; MRIGlobal, Kansas City, MO; Nanotherapeutics, Inc., Alachua, FL; Philips Healthcare, Andover, MA; Profectus BioSciences, Inc., Baltimore, MD; ProModel Corporation, Allentown, PA; QuickSilver Analytics, Inc., Belcamp, MD; SciTech Services, Inc., Havre de Grace, MD; SENTEL Corporation, Alexandria, VA; Shield Analysis Technology, LLC, Manassas, VA; Southwest Research Institute, San Antonio, TX; SRI International, Menlo Park, CA; Tech62, Fairfax, VA; Triton Systems, Inc., Chelmsford, MA; University of Pittsburgh, Pittsburgh, PA; University of Tennessee, Knoxville, Knoxville, TN; and Verndari Inc., Napa, CA, have been added as parties to this venture.

No other changes have been made in either the membership or planned activity of the group research project. Membership in this group research project remains open, and MCDC intends to file additional written notifications disclosing all changes in membership.

On November 13, 2015, NCBDC filed its original notification pursuant to Section 6(a) of the Act. The Department of Justice published a notice in the Federal Register pursuant to Section 6(b) of the Act on January 6, 2016 (81 FR 513).

Patricia A. Brink,
Director of Civil Enforcement, Antitrust Division.

[FR Doc. 2016-19035 Filed 8-10-16; 8:45 am]

BILLING CODE 4410-11-P